DEPARTMENT OF TRANSPORTATION

Office of the Secretary

Aviation Proceedings, Agreements Filed During March 25, through May 17, 2002

The following Agreements were filed with the Department of Transportation under the provisions of 49 U.S.C. Sections 412 and 414. Answers may be filed within 21 days after the filing of the application.

Docket Number: OST-2002-12023.

Date Filed: April 2, 2002.

Parties: Members of the International Air Transport Association.

Subject:

PTC3 0556 dated 26 March 2002

Mail Vote 213—Resolution 010L

TC3 between Japan, Korea and South East Asia Special Passenger

Amending Resolution between Korea and China (excluding Hong Kong SAR and Macau SAR) r1-r5

Intended effective date: 15 April 2002.

Docket Number: OST-2002-12035.

Date Filed: April 3, 2002.

Parties: Members of the International Air Transport Association.

Subject:

PTC12 NMS-AFR 0133 dated 8 March 2002

North Atlantic-Africa Resolutions r1-r22

Minutes: PTC12 NMS-AFR 0138 dated 2 April 2002

Tables: PTC12 NMS-AFR Fares 0069 dated 8 March 2002

Intended effective date: 1 May 2002.

Docket Number: OST-2002-12036.

Date Filed: April 3, 2002.

Parties: Members of the International Air Transport Association.

Subject:

PTC12 NMS-AFR 0132 dated 5 March 2002 (Mail Vote 212)

Mid Atlantic-Africa Resolutions r1-r11

PTC12 NMS-AFR 0139 dated 2 April 2002 adopting Mail Vote 212

PTC12 NMS-AFR 0134 dated 8 March 2002

South Atlantic-Africa Resolution r12-r26

Minutes: PTC12 NMS-AFR 0138 dated 2 April 2002 filed with

TC12 North Atlantic-Africa agreement

Tables: PTC12 NMS-AFR Fares 0070 dated 8 March 2002

PTC12 NMS-AFR Fares 0071 dated 2 April 2002

Intended effective date: 1 May 2001.

Docket Number: OST-2002-12037.

Date Filed: April 3, 2002.

Parties: Members of the International Air Transport Association.

Subject:

PTC3 0557 dated 2 April 2002

Mail Vote 214—Resolution 010m

TC3 between Japan, Korea and South East Asia

Special Passenger Amending Resolution between China (excluding Hong Kong SAR and Macau SAR) and Japan r1-r9

Intended effective date: 25 April 2002.

Docket Number: OST-2002-12058.

Date Filed: April 4, 2002.

Parties: Members of the International Air Transport Association.

Subject:

PTC2 EUR-ME 0136 dated 5 April 2002

Mail Vote 216-Resolution 010o

TC2 Europe-Middle East Special Passenger Amending Resolution

From Cyprus to Lebanon

Intended effective date: 25 April 2002.

Docket Number: OST-2002-12109.

Date Filed: April 15, 2002.

Parties: Members of the International Air Transport Association.

Subject:

PTC3 0560 dated 16 April 2002

Mail Vote 215—Resolution 010n

TC3 Special Passenger Amending Resolution Between Chongking and Bangkok r1-r5

Intended effective date: 25 April 2002.

Docket Number: OST-2002-12116.

Date Filed: April 16, 2002.

Parties: Members of the International Air Transport Association.

Subject:

PTC COMP 0916 dated 16 April 2002

Mail Vote 219—Resolution 010r

TC1, TC12 South Atlantic-Europe, TC31 South Pacific

Special Passenger Amending Resolution

Childrens fares from Brazil

Intended effective date: 1 May 2002.

Docket Number: OST-2002-12130.

Date Filed: April 16, 2002.

Parties: Members of the International Air Transport Association.

Subject:

PTC23 AFR-TC3 0165 dated 16 April 2002

Mail Vote 218—Resolution 010q

TC23 Africa-TC3 Special Passenger Amending Resolution from Uganda

Intended effective date: 1 May 2002.

Docket Number: OST-2002-12182.

Date Filed: April 24, 2002.

Parties: Members of the International Air Transport Association.

Subject:

Mail Vote 220—Resolution 010s

Special Passenger Amending Resolution from Spain

PTC12 MEX-EUR 0052 dated 26 April 2002

PTC12 MATL-EUR 0065 dated 26 April 2002

PTC12 SATL-EUR 0091 dated 26 April 2002

Intended effective date: 1 May 2002.

Docket Number: OST-2002-12256.

Date Filed: May 6, 2002.

Parties: Members of the International Air Transport Association.

Subject:

PTC3 0567 dated 7 May 2002

Mail Vote 217—Resolution 010p

TC3 between Japan, Korea and South East Asia Special Passenger Amending Resolution between China (excluding Hong Kong SAR and Macau SAR) and Korea r1-r4

Intended effective date: 26 May 2002.

Docket Number: OST-2002-12257.

Date Filed: May 6, 2002.

Parties: Members of the International Air Transport Association.

Subject:

PTC2 EUR 0462 dated 30 April 2002 r1-r4

PTC2 EUR 0463 dated 3 May 2002 r5-r20

PTC2 EUR 0464 dated 3 May 2002 r21-r-23

PTC2 EUR 0465 dated 3 May 2002 r24

PTC2 EUR 0466 dated 3 May 2002 r25

PTC2 EUR 0467 dated 3 May 2002 r26-r27

TC2 Within Europe Expedited Resolutions

Minutes: PTC2 EUR 0468 dated 3 May 2002

Tables: No Tables

Intended effective dates: 1 June, 15 June, 1 July, 1 September, 1 October, 1 November 2002.

Parties: Members of the International Air Transport Association.

Subject:

PTC23 AFR-TC3 0165 dated 16 April 2002

Mail Vote 218—Resolution 010q

TC23 Africa-TC3 Special Passenger Amending Resolution from Uganda

Intended effective date: 1 May 2002.

Docket Number: OST-2002-12182.

Date Filed: April 24, 2002.

Parties: Members of the International Air Transport Association.

Subject:

Mail Vote 220—Resolution 010s

Special Passenger Amending Resolution from Spain

PTC12 MEX-EUR 0052 dated 26 April 2002

PTC12 MATL-EUR 0065 dated 26 April 2002

PTC12 SATL-EUR 0091 dated 26 April 2002

Intended effective date: 1 May 2002.

Docket Number: OST-2002-12256.

Date Filed: May 6, 2002.

Parties: Members of the International Air Transport Association.

Subject:

PTC3 0567 dated 7 May 2002

Mail Vote 217—Resolution 010p

TC3 between Japan, Korea and South East Asia Special Passenger Amending Resolution between China (excluding Hong Kong SAR and Macau SAR) and Korea r1-r4

Intended effective date: 26 May 2002.

Docket Number: OST-2002-12257.

Date Filed: May 6, 2002.

Parties: Members of the International Air Transport Association.

Subject:

PTC2 EUR 0462 dated 30 April 2002 r1-r4

PTC2 EUR 0463 dated 3 May 2002 r5-r20

PTC2 EUR 0464 dated 3 May 2002 r21-r23

PTC2 EUR 0465 dated 3 May 2002 r24

PTC2 EUR 0466 dated 3 May 2002 r25

PTC2 EUR 0467 dated 3 May 2002 r26-r27

TC2 Within Europe Expedited Resolutions

Minutes: PTC2 EUR 0468 dated 3 May 2002

Tables: No Tables

Intended effective dates: 1 June, 15 June, 1 July, 1 September, 1 October, 1 November 2002.

Docket Number: OST-2002-12312.

Date Filed: May 13, 2002.

Parties: Members of the International Air Transport Association.

Subject:

Mail Vote 222—Resolution 010u

IATA telexes TW975 of 24 April 2002,

TW977 of 29 April 2002, TW980 dated 8 May 2002

TC2, TC12, TC23/123 Special Passenger Amending Resolution from Libya

Intended effective date: 15 May 2002.

Docket Number: OST-2002-12335.

Date Filed: May 15, 2002.

Parties: Members of the International Air Transport Association.

Subject:

PTC123 0185 dated 17 May 2002

Mail Vote 223—Resolution 010v

TC123 North/Mid/South Atlantic

Special Passenger Amending Resolution from Korea (Rep.of)

Intended effective date: 1 June 2002.

Dorothy Y. Beard,
Federal Register Liaison.

[FR Doc. 02-13551 Filed 5-29-02; 8:45 am]

BILLING CODE 4910-62-P